LEGAL SERVICES CORPORATION

Sunshine Act Meeting

Time and Date: The Legal Services Corporation Board of Directors' Search Committee for LSC President (“Search Committee” or “Committee”) will meet telephonically on September 10, 2010. The meeting will begin at 1 p.m., (Eastern Time) and continue until conclusion of the Committee's agenda.

Location: Legal Services Corporation, 3333 K Street, NW., Washington, DC 20007, 3rd Floor Conference Center.

Status of Meeting: Open.

Public Observation: For all meetings and portions thereof open to public observation, members of the public that wish to listen to the proceedings may do so by following the telephone call-in directions given below. You are asked to keep your telephone muted to eliminate background noises. From time to time the Chairman may solicit comments from the public.

Call-In Directions for Open Session(s)

• Call toll-free number: 1-(866) 451-4981;

• When prompted, enter the following numeric pass code: 5907707348;

• When connected to the call, please “MUTE” your telephone immediately.

Matters to be Considered:

Closed Session

1. Approval of agenda.

2. Consider and act on proposed job description for the position of LSC President.

3. Consider and act on other business.

4. Consider and act on adjournment of meeting.

Contact Person For Information: Kathleen Connors, Executive Assistant to the President, at (202) 295-1500. Questions may be sent by electronic mail to FR_NOTICE_QUESTIONS@lsc.gov.

Special Needs: Upon request, meeting notices will be made available in alternate formats to accommodate visual and hearing impairments. Individuals who have a disability and need an accommodation to attend the meeting may notify Kathleen Connors at (202) 295-1500 or FR_NOTICE_QUESTIONS@lsc.gov.

Dated: September 2, 2010.
Patricia D. Batie,
Corporate Secretary.

[FR Doc. 2010-22334 Filed 9-2-10; 4:15 pm]

BILLING CODE 7050-01-P